DEPARTMENT OF ENERGY

Federal Energy Regulatory Commission

[Docket No. RP01-383-000]

Viking Gas Transmission Company; Notice of Tariff Filing

April 25, 2001.

Take notice that on April 20, 2001, Viking Gas Transmission Company (Viking) tendered for filing as part of its FERC Gas Tariff, First Revised Volume No. 1, Ninth Revised Sheet No. 82 to be effective on June 1, 2001.

Viking states that the purpose of this filing is to change Viking's tariff to expand the period during which requests for service may be made. Viking's tariff currently does not allow requests for service to be made more than ninety days prior to the proposed commencement date of service. Viking's proposed change would allow requests for service to be made up to eleven months prior to the proposed commencement date of service.

Viking states that copies of this filing have been served on all of Viking's jurisdictional customers and to affected state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-10737 Filed 4-30-01; 8:45 am]

BILLING CODE 6717-01-M